DEPARTMENT OF ENERGY

Federal Energy Regulatory Commission

Combined Notice of Filings #2

Take notice that the Commission received the following electric corporate filings:

Docket Numbers: EC17-132-000.

Applicants: FPL Energy Wyman IV LLC, Public Service Company of New Hampshire.

Description: Application for Authorization for Disposition of Jurisdictional Facilities Under Section 203 of the Federal Power Act and Request for Expedited Action of FPL Energy Wyman IV LLC, et. al.

Filed Date: 6/21/17.

Accession Number: 20170621-5146.

Comments Due: 5 p.m. ET 7/12/17.

Take notice that the Commission received the following exempt wholesale generator filings:

Docket Numbers: EG17-119-000.

Applicants: Buckthorn Wind, LLC.

Description: Notice of Self-Certification of Exempt Wholesale Generator Status of Buckthorn Wind, LLC.

Filed Date: 6/21/17.

Accession Number: 20170621-5118.

Comments Due: 5 p.m. ET 7/12/17.

Docket Numbers: EG17-120-000.

Applicants: Bearkat Wind Energy I, LLC.

Description: Bearkat Wind Energy I, LLC's Notice of Self-Certification of Exempt Wholesale Generator Status.

Filed Date: 6/21/17.

Accession Number: 20170621-5149.

Comments Due: 5 p.m. ET 7/12/17.

Take notice that the Commission received the following electric rate filings:

Docket Numbers: ER17-1877-000.

Applicants: Southern California Edison Company.

Description: § 205(d) Rate Filing: Letter Agreement Huntington Beach Energy Project SA No. 193 to be effective 6/22/2017.

Filed Date: 6/21/17.

Accession Number: 20170621-5087.

Comments Due: 5 p.m. ET 7/12/17.

Docket Numbers: ER17-1878-000.

Applicants: Southern California Edison Company.

Description: § 205(d) Rate Filing: Letter Agreement Alamitos Energy Center Project SA No. 194 to be effective 6/22/2017.

Filed Date: 6/21/17.

Accession Number: 20170621-5088.

Comments Due: 5 p.m. ET 7/12/17.

Docket Numbers: ER17-1879-000.

Applicants: New York Independent System Operator, Inc.

Description: § 205(d) Rate Filing: 205 filing of Rate Schedule 1 revisions for Ramapo PARs cost recovery to be effective 7/1/2017.

Filed Date: 6/21/17.

Accession Number: 20170621-5124.

Comments Due: 5 p.m. ET 7/12/17.

Docket Numbers: ER17-1880-000.

Applicants: Midcontinent Independent System Operator, Inc.

Description: § 205(d) Rate Filing: 2017-06-21_SA 900 Termination of Entergy—Southcoast Wind LGIA to be effective 9/4/2017.

Filed Date: 6/21/17.

Accession Number: 20170621-5147.

Comments Due: 5 p.m. ET 7/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 21, 2017.
Nathaniel J. Davis, Sr.,
Deputy Secretary.

[FR Doc. 2017-13382 Filed 6-26-17; 8:45 am]

BILLING CODE 6717-01-P